FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202) 523-5793 or tradeanalysis@fmc.gov.

Agreement No.: 012067-002.

Title: U.S. Supplemental Agreement to HLC Agreement.

Parties: BBC Chartering & Logistics GmbH & Co. KG; Beluga Chartering GmbH; Chipolbrok; Clipper Project Ltd.; Hyundai Merchant Marine Co., Ltd.; Industrial Maritime Carriers, L.L.C.; Nordana Line A/S; and Rickmers-Linie GmbH & Cie. KG.

Filing Party: Wade S. Hooker, Esq.; 211 Central Park W; New York, NY 10024.

Synopsis: The amendment deletes Universal Africa Lines, Ltd. as a party to the Agreement.

Agreement No.: 012106.

Title: HLAG/HSDG Trans-Atlantic Space Charter Agreement.

Parties: Hamburg Sud and Hapag-Lloyd.

Filing Parties: Wayne R. Rohde, Esq.; Cozen O'Connor; 1627 I Street, N.W., Suite 1100; Washington, DC 20006.

Synopsis: The agreement authorizes Hapag-Lloyd to charter space to Hamburg Sud in the trade between New York and Antwerp, Belgium.

Dated: September 3, 2010.
By Order of the Federal Maritime Commission.
Karen V. Gregory,
Secretary.

[FR Doc. 2010-22539 Filed 9-8-10; 8:45 am]

BILLING CODE 6730-01-P